DEPARTMENT OF AGRICULTURE

Forest Service

Off-Highway Vehicle (OHV) Study, Mark Twain National Forest, Madison, WA, and Wayne Counties, MO

AGENCY: Forest Service, USDA.

ACTION: Notice of intent to prepare an environmental impact statement.

SUMMARY: The Forest Service will prepare an environmental impact statement (EIS) to analyze and disclose the environmental effects of proposed activities within the three OHV Study project areas. The three OHV Study project areas are located on National Forest System lands administered by the Potosi/Fredericktown and Poplar Bluff Ranger Districts is southeast Missouri. The legal descriptions of the three study areas are as follows:

Palmer Study Area—This study area would be located on the Potosi Unit of the Potosi/Fredericktown Ranger District in Washington County, approximately 12 miles southwest of Potosi, Missouri. The legal description is T36N, R1W, Sections 1, 2, 10-15, 22-26, 35, and 36; T36N, R1E, Sections 2-4, 6-11, 14-23, 27, and 30; T37N, R1E, Sections 31-35. This trail system would be managed for a variety of motorized vehicles, including jeeps and dune buggies. There would also be 3 small designated areas for off-road and off-trail riding, totaling approximately 31 acres in the Palmer Study Area. Trailheads and parking ares would also be constructed at some locations.

Cherokee Pass Study Area—This study area would be located on the Fredericktown Unit of the Potosi/Fredericktown Ranger District in Madison County, approximately seven miles south of Fredericktown, Missouri. The legal description is T32N, R6E, Sections, 1, 11-14, 22-26, 35, and 36; T32N, R7E, Sections 3-11, 15-23, 26-34. This trail system would be managed for ATV and equestrian use. Other motorized vehicles such as motorcycles, jeeps, and dune buggies, would not be allowed. Trailheads and parking areas would also be constructed at some locations.

Blackwell Ridge Study Area—This study area would be located on the Poplar Bluff Ranger District in Wayne County, approximately 1½ mile north of Williamsville, Missouri. The legal description is T27N, R4E, Sections 1-4, and 12; T27N, R5E, Sections 5, 6, and 8; T28N, R4E Sections 32-34. This trail system would be managed for ATV and motorcycles. Other motorized four-wheel drive vehicles, jeeps, and dune buggies, would not be allowed.

Trailheads and parking areas would also be constructed at some locations. Approximately 137 miles of trail is being proposed as part of this project. Of this 137 miles, 66 miles are county or Forest Service roads, with an additional 62 miles that exists as unimproved roads on National Forest land. Only about 9 miles of new trail construction is proposed. There are no new stream crossings proposed. Stream crossings used as part of the trail proposal would be on county or Forest Service roads or on historic road locations.

The primary purpose of this project is to study OHV use and users to guide future management options on OHV trail opportunities and use. This study will also evaluate equipment impacts to natural resources. Social impacts, such as customer satisfaction, demographics of trail users, and compatibility between trail users, would also be studied. The Mark Twain National Forest needs to determine if designating more motorized trails can be done in a manner that not only provides for this recreational use, but also addresses environmental concerns. It is hoped that by providing additional designated OHV trails, OHV users would avoid undesignated roads and trails and, thereby, the overall environmental damage from unauthorized use can be reduced. Observations by OHV managers locally and from other states indicate that when OHV riders have designated areas to ride, they are more likely to stay on designated routes.

Therefore, the OHV customer, the resource manager, and the environment should all benefit from this study. Resource managers would be able to direct OHV customers to a designated trail system where impacts are confined, minimized, evaluated, monitored, and mitigated. With this study, OHV customers would know they are in an area where they can legally ride in a setting they enjoy. The Forest Service can promote responsible OHV use, better communication with this forest user group, promote local partnerships for conservation education and OHV trail maintenance, and evaluate resource and social impacts.

The focus of this study is to evaluate OHV use in three separate study locations and publish an evaluation of what is learned. The results of this study would by used to guide future management decisions on OHV trail management here and elsewhere in the National Forest System. At the end of the study period, unless the study is modified or terminated early, a separate decision, following the National Environmental Policy Act process, would be made as to whether or not to designate all, part, or none of the three areas as permanent OHV trails. The data collected from this study and other ongoing national studies would be used to corroborate and assist in making that decision.

DATES: Comments concerning this proposed action should be received within 30 days following publication of this NOI to receive timely consideration in the preparation of the draft EIS. Comments received during the previous scoping period will be considered for development of the draft EIS.

ADDRESSES: Please send your comments or requests for additional information to the Potosi/Fredericktown Ranger District, P.O. Box 188, Potosi, MO 63664, telephone (573) 438-5427, or the Poplar Bluff Ranger District, P.O. Box 988, 1420 Maud Street, Poplar Bluff, MO 63901, (573) 785-1475. Electronic comments must be sent via the Internet to: comments-eastern-mark-twain-potosi@fs.fed.us within 30 days of the publication of this of this NOI. In order for electronic comments to be considered, they must be sent to the aforementioned email address. To access project information electronically, go to: http://www.fs.fed./us/r9/marktwain/projects/project.htm. Comments received in response to this solicitation, including names and addresses of those who comment, will be considered part of the public record on this proposed action and will be available for public inspection upon request.

FOR FURTHER INFORMATION CONTACT: Tom McGuire, Project Leader/Integrated Resource Analyst, Potosi/Fredericktown Ranger District, P.O. Box 188, Potosi Missouri 63664, phone (573) 438-5427.

SUPPLEMENTARY INFORMATION:

Proposed Action

The proposed action is to conduct a three-year study to evaluate three motorized trail systems. This study would help the Forest Service determine the environmental and social impacts of OHV trails on the National Forest. Of the 137 miles of roads and trails included in the study area, only nine miles of new trail will be constructed, the remainder is existing roads and trails. Existing conditions would be evaluated prior to opening the trail systems, and resource conditions would be monitored throughout the duration of the study. Management would respond to trail conditions and potential resource concerns by using different techniques, such as seasonal closures and weather related closures, which would be part of the study. Preliminary monitoring of the project area would be used as a baseline to determine environmental effects occurring during the study period. Prior to initiating the study, preliminary levels of acceptable change would be established. If changes to the environment occur that are beyond the levels of acceptable change, the study would be modified or OHV use terminated during the 3-year study period. Roads and trails would be designated open by the use of trail markers. Most of the designated trail system would consist of current system, non-system, and county roads, and trails that have been previously used and are in locations suitable for the proposed study use. Many of these trails and roads have been used for a number of years. A small number of connector trails would be constructed to connect existing trail sections. Several existing non-system road segments and trails would be closed to motorized use as part of this proposal for soil and water protection, protection of heritage resource sites, stream crossings, sensitive habitats, and locations in proximity to private property. The county roads in Washington County would remain under county jurisdiction.

The proposed trail study would be under the fee demonstration authority. The fees collected would be used to increase Forest Service presence in the study areas, to provide visitor information at trailheads, and to accomplish trail maintenance.

The 1986 Mark Twain National Forest Land and Resource Management Plan (Forest Plan), as amended, provides general guidance and direction for the Proposed Action. The OHV Trail Study meets the Forest Plan Direction, Recreation Management Goals (Forest Plan IV-1), and the Forest-wide Management Direction for Recreation Management of trails (Forest Plan IV-29-IV-30).

Decision Space

Decision making will be limited to activities relating to the proposed actions. The primary decision to be made will be whether or not to implement the proposed actions listed above, a no-action alternative, or another action alternative that responds to the project's purpose and needs.

Preliminary Issues

A review of public comments received thus far has identified a number of issues. The issues include, but are not limited to, concerns about pollution, soil, water and vegetation impacts, wildlife impacts, trespass and noise. Issues also include concerns about illegal off-trail use and the need to provide a place for legal, environmentally sound OHV use.

Public Participation

The Forest Service previously scoped this proposed action for sixty days, with the scoping period ending February 22, 2004, an open house was conducted on February 10, 2004 in Rolla, MO and February 17, 2004 in St. Louis, MO. Comments received during the previous scoping period and open house will be considered. This notice constitutes notification for public participation pursuant to 36 CFR 295.3.

Estimated Dates for Filing

The draft EIS is expected to be filed with the Environmental Protection Agency and available for public review in September 2004. A 45-day comment period will follow publication of a Notice of Availability of the draft EIS in the Federal Register. Comments received on the draft EIS will be analyzed and considered in preparation of a final EIS, expected in December 2004. A Record of Decision (ROD) will also be issued at that time along with the publication of a Notice of Availability of the final EIS and ROD in the Federal Register.

Reviewers Obligation To Comment

The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Responsible Official

The responsible official for this environmental impact statement is Ronnie Raum, Forest Supervisor, Mark Twain National Forest.

Dated: April 28, 2004.
Ronnie Raum,
Forest Supervisor, Mark Twain National Forest, 401 Fairgrounds Rd., Rolla, Missouri 65401.

[FR Doc. 04-10272 Filed 5-5-04; 8:45 am]

BILLING CODE 3410-11-M